DEPARTMENT OF ENERGY

Federal Energy Regulatory Commission

[Docket No. CP01-375-000]

East Tennessee Natural Gas Company; Notice of Application

June 1, 2001.

Take notice that on May 25, 2001, East Tennessee Natural Gas Company (East Tennessee), 5400 Westheimer Court, Houston, Texas 77056-5310, filed with the Commission in Docket No. CP01-375-000 an application pursuant to section 7(c) of the Natural Gas Act (NGA) for authorization to construct, install, own, operate, and maintain various pipeline facilities in Tennessee needed to provide firm transportation service to the Tennessee Valley Authority (TVA), all as more fully set forth in the amendment which is open to the public for inspection. This filing may be viewed on the web at http://www.ferc.fed.us/online/rims.htm (please call (202) 208-2222 for assistance).

East Tennessee proposes to undertake the following activities:

a. Construct 8.74 miles of 20-inch diameter pipeline loop and 9.63 miles of 16-inch diameter pipeline loop on East Tennessee's existing pipeline right of way (ROW), and construct 8.09 miles of 20-inch diameter pipeline loop adjacent to East Tennessee's existing pipeline ROW in Moore, Lewis, Lawrence, Giles, Maury, and Franklin Counties, Tennessee;

b. Hydrostatically test one pipeline section of approximately 5.44 miles of 12-inch diameter pipeline on Line 3200 located on the existing East Tennessee system in Franklin County to increase the maximum allowable operating pressure (MAOP);

c. Install a 6,270 horsepower (HP) compressor unit, to be located at Station 3206 in Marshall County, Tennessee; and two regulators, one at Station 3206 in Marshall County, and one at the Elk River Estill Springs Meter Station in Franklin County;

d. Replace aerodynamic assemblies for two existing units at Stations 3206 and two existing units at Station 3209 in Franklin County with new aerodynamic assemblies;

e. Construct one new compressor station, Station 3202, in Hickman and Lewis Counties, Tennessee, by installing three 1,085 HP compressor units;

f. Construct one new gas meter station in Franklin County; and,

g. Install associated valves, piping, and appurtenant facilities.

East Tennessee seeks all necessary certificate authority to construct, own, operate, and maintain the above mentioned facilities, collectively referred to as the TVA Project. East Tennessee also seeks authorization to establish an initial section 7(c) rate for the proposed incremental facilities. The TVA Project facilities would allow East Tennessee to provide 86,000 Dekatherm equivalent of natural gas per day (Dth/d) in firm transportation service for the TVA. East Tennessee states that it would provide service to the TVA pursuant to East Tennessee's existing open access FERC Rate Schedule FT-A. East Tennessee also states that it would finance the estimated $44,376,000 construction cost for the proposed facilities from funds on hand.

Any questions regarding the application should be directed to Steven E. Tillman, Director, Regulatory Affairs, East Tennessee Natural Gas Company, P.O. Box 1642, Houston, Texas 77251-1652, phone number (713) 627-5113.

There are two to become involved in the Commission's review of this project. First, any person wishing to obtain legal status by becoming a party to the proceedings for this project should, on or before June 22, 2001, file with the Federal Energy Regulatory Commission, 888 First Street, NE., Washington, DC 20426, a motion to intervene or a protest in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-14340 Filed 6-6-01; 8:45 am]

BILLING CODE 6717-01-M